FEDERAL COMMUNICATIONS COMMISSION

47 CFR Part 73

[DA 04-3172; MB Docket No. 04-388, RM-11089; MB Docket No. 04-389, RM-11090; MB Docket No. 04-390, RM-11091; MB Docket No. 04-391, RM-11092]

Radio Broadcasting Services; Blythe, CA; Boyce, LA; Celoron, NY; and Wells, TX

AGENCY: Federal Communications Commission.

ACTION: Proposed rule.

SUMMARY: This document sets forth four proposals to amend the FM Table of Allotments, Section 73.202(b) of the Commission's rules, 47 CFR 73.202(b). The Commission requests comment on a petition filed by Linda A. Davidson. Petitioner proposes the allotment of Channel 239B at Blythe, California, as a second local FM allotment. Channel 239B can be allotted at Blythe in compliance with the Commission's minimum distance separation requirements without site restriction at center city coordinates. The proposed coordinates for Channel 239B at Blythe are 33-37-02 North Latitude and 114-35-20 West Longitude. The proposed allotment is located within 320 kilometers (199 miles) of the United States-Mexico border, so it will be necessary to obtain concurrence in the allotment from the Government of Mexico. See Supplementary Information infra.

DATES: Comments must be filed on or before November 29, 2004, and reply comments on or before December 14, 2004.

ADDRESSES: Federal Communications Commission, Washington, DC 20554. In addition to filing comments with the FCC, interested parties should serve the petitioners as follows: Linda A. Davidson, 2134 Oak Street, Unit C, Santa Monica, California 90405; Charles Crawford, 4553 Bordeaux Avenue, Dallas, Texas 75205; and Dana J. Puopolo, 2134 Oak Street, Unit C, Santa Monica, California 90405.

FOR FURTHER INFORMATION CONTACT: Deborah A. Dupont, Media Bureau (202) 418-7072.

SUPPLEMENTARY INFORMATION: This is a synopsis of the Commission's Notice of Proposed Rule Making, MB Docket Nos. 04-388, 04-389, 04-390, 04-391, adopted October 6, 2004, and released October 8, 2004. The full text of this Commission decision is available for inspection and copying during normal business hours in the FCC Reference Information Center (Room CY-A257), 445 12th Street, SW., Washington, DC. The complete text of this decision may also be purchased from the Commission's copy contractor, Best Copy and Printing, Inc., 445 12th Street, SW., Room CY-B402, Washington, DC, 20554, (800) 378-3160, or via the company's Web site, http://www.bcpiweb.com.

The Commission further requests comment on a petition filed by Charles Crawford. Petitioner proposes the allotment of Channel 222A at Boyce, Louisiana, as a second local FM allotment. Channel 222A can be allotted at Boyce in compliance with the Commission's minimum distance separation requirements with a site restriction of 12.9 kilometers (8.0 miles) southwest of Boyce. The proposed coordinates for Channel 222A at Boyce are 31-18-54 North Latitude and 92-46-22 West Longitude.

The Commission further requests comment on a petition filed by Dana J. Puopolo. Petitioner proposes the allotment of Channel 237A at Celoron, New York, as a first local FM allotment. Channel 237A can be allotted at Celoron in compliance with the Commission's minimum distance separation requirements with a site restriction of 0.4 kilometers (0.2 miles) southeast of Celoron. The proposed coordinates for Channel 237A at Celoron are 42-06-24 North Latitude and 79-16-53 West Longitude. The proposed allotment is located within 320 kilometers (199 miles) of the United States-Canada border, so it will be necessary to obtain concurrence in the allotment from the Government of Canada.

The Commission further requests comment on a petition filed by Charles Crawford. Petitioner proposes the allotment of Channel 254A at Wells, Texas, as a second local FM allotment. Channel 254A can be allotted at Wells in compliance with the Commission's minimum distance separation requirements with a site restriction of 1.6 kilometers (1.0 miles) west of Wells. The proposed coordinates for Channel 254A at Wells are 31-29-35 North Latitude and 94-57-20 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 239B at Blythe.

3. Section 73.202(b), the Table of FM Allotments under Louisiana, is amended by adding Channel 222A at Boyce.

4. Section 73.202(b), the Table of FM Allotments under New York, is amended by adding Celoron, Channel 237A.

5. Section 73.202(b), the Table of FM Allotments under Texas, is amended by adding Channel 254A at Wells.

Federal Communications Commission.
John A. Karousos,
Assistant Chief, Audio Division, Media Bureau.

[FR Doc. 04-23457 Filed 10-19-04; 8:45 am]

BILLING CODE 6712-01-P